DEPARTMENT OF TRANSPORTATION

Federal Motor Carrier Safety Administration

[Docket No. FMCSA-2025-0102]

Agency Information Collection Activities; Renewal of an Approved Information Collection: Hours of Service (HOS) of Drivers Regulations

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled, “Hours of Service (HOS) of Drivers Regulations.” The HOS regulations require a motor carrier to install, and requires each of its drivers subject to the record of duty status (RODS) rule to use, an electronic logging device (ELD) to report the driver's RODS. The RODS is critical to FMCSA's safety mission because it helps enforcement officials determine if commercial motor vehicle (CMV) drivers are complying with the HOS rules limiting driver on-duty and driving time and requiring periodic off-duty time.

DATES: Comments on this notice must be received on or before August 12, 2025.

ADDRESSES: You may submit comments identified by Federal Docket Management System (FDMS) Docket Number FMCSA-2025-0102 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Ms. Pearlie Robinson, FMCSA Driver and Carrier Operations Division, DOT, FMCSA, 1200 New Jersey Avenue SE, Washington, DC 20590-0001; (202) 366-4225; pearlie.robinson@dot.gov

SUPPLEMENTARY INFORMATION:

Instructions

All submissions must include the Agency name and docket number. For detailed instructions on submitting comments, see the Public Participation heading below. Note that all comments received will be posted without change to http://www.regulations.gov, including any personal information provided. Please see the Privacy Act heading below.

Public Participation and Request for Comments

If you submit a comment, please include the docket number for this notice (FMCSA-2025-0102), indicate the specific section of this document to which the comment applies and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2025-0102 document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

On December 16, 2015, the final rule titled “Electronic Logging Devices and Hours of Service Supporting Documents” was published in the Federal Register (80 FR 78292). It became effective February 16, 2016. The rulemaking established minimum performance and design standards for ELDs and mandated use of these devices by drivers who are subject to the HOS reporting requirements, known as RODS. Drivers using compliant automatic on-board recorders had until December 16, 2019, to replace the devices with ELDs. As a condition of receiving certain federal grants, States agree to adopt and enforce the Federal Motor Carrier Safety Regulations, including the HOS rules, as State law. As a result, State enforcement inspectors use the ELDs/RODS and supporting documents to determine whether CMV drivers are complying with the HOS rules. In addition, FMCSA uses the ELDs/RODS during on-site and offsite investigations of motor carriers. Federal and State courts rely upon the ELDs/RODS as evidence of driver and motor carrier violations of the HOS regulations. This information collection supports DOT's Strategic Goal of Safety because the information helps the Agency ensure the safe operation of CMVs in interstate commerce on our Nation's highways.

Renewal of This Information Collection (IC)

The current IC burden estimate of the HOS rules, approved by OMB on September 16, 2022, is 50.37 million hours. The expiration date of the current ICR is September 30, 2025. Through this ICR renewal, FMCSA requests an increase in the burden hours from 50.37 million hours to 53.40 million hours. The increase is the result of the increase in estimated driver population as well as the increase in expected industry growth rate for drivers from 2023 to 2033. Two types of information are collected under this IC: (1) drivers' RODS (from their ELDs) commonly referred to as a logbook, and (2) supporting documents, such as gasoline and toll receipts, that motor carriers use to verify accuracy of RODS and document expense deductions for income tax filing purposes.

Title: Hours of Service (HOS) of Drivers Regulations.

OMB Control Number: 2126-0001.

Type of Request: Renewal of an information collection.

Respondents: Motor Carriers of Property and Passengers, Drivers of CMVs.

Estimated Number of Respondents: 4.45 million CMV drivers; 813,844 Motor Carriers.

Estimated Time per Response: CMV drivers using technology: 2 minutes. Motor Carriers: 2 minutes.

Expiration Date: September 30, 2025.

Frequency of Response: Drivers: 240 days per year; Motor carriers 240 days per year.

Estimated Total Annual Burden: 53.40 million hours.

Public Comments Invited: You are asked to comment on any aspect of this information collection, including: (1) whether the proposed collection is necessary for the performance of FMCSA's functions; (2) the accuracy of the estimated burden; (3) ways for the FMCSA to enhance the quality, usefulness, and clarity of the collected information; and (4) ways that the burden could be minimized without reducing the quality of the information collected. The agency will summarize or include your comments in the request for OMB's clearance of this ICR.

Issued under the authority of 49 CFR 1.87.
Kenneth Riddle,
Acting Associate Administrator Office of Research and Registration.

[FR Doc. 2025-10805 Filed 6-12-25; 8:45 am]

BILLING CODE 4910-EX-P